DEPARTMENT OF AGRICULTURE

Forest Service

Merger of Northeastern Area and Eastern Region

AGENCY: Forest Service, USDA.

ACTION: Notice; request for public comment.

SUMMARY: The USDA Forest Service, Executive Leadership Team (ELT) proposes to merge the management of the Northeastern Area with the Eastern Region. The desire to obtain organizational consistency across the country has prompted the ELT to combine the two units. This step will enable a more cohesive forest management program to be developed and deployed. One lead organizational unit will provide a powerful, effective suite of Forest Service programs to help improve people's lives and sustain the natural resources in the region.

DATES: Comments on the improved delivery of State and Private services consistent with the newly merged organization must be received in writing by July 9, 2009.

ADDRESSES: Send written comments to USDA, Forest Service, Attention: Deputy Chief for State and Private Forestry, 1400 Independence Avenue, SW., Mailstop 1109, Washington, DC 20250-1109. Comments may also be sent via e-mail to spf@fs.fed.us. If comments are sent electronically, the public is requested not to send duplicate comments by regular mail. Please confine comments to issues pertinent to the delivery of services under the proposed merger.

All comments, including names and addresses when provided, are placed in the record and are available for public inspection and copying. The public may inspect comments received at the Office of the Deputy Chief, State and Private Forestry, 1400 Independence Avenue, SW., Washington, DC. Visitors are encouraged to call (202) 205-1657 to facilitate entry to the building.

FOR FURTHER INFORMATION CONTACT: Kent Connaughton, Regional Forester, Eastern Region at kconnaughton@fs.fed.us or by phone at 414-297-3765.

Individuals who use telecommunication devices for the deaf (TDD) may call the Federal Information Relay Service (FIRS) at 1-800-877-8339 between 8 a.m. and 8 p.m., Eastern Standard Time, Monday through Friday.

SUPPLEMENTARY INFORMATION: The leaders of the Forest Service see benefit in merging the Northeastern Area with the Eastern Region under the leadership of one Regional Forester. The merger of the two units will improve forest management and enhance technology transfer through unified leadership. This decision by the ELT will:

• Integrate existing programs—management, discovery and applications—to address ecosystem to landscape-level questions from a suite of contemporary conservation issues.

• Augment the transfer of science developed by the Northern Research Station.

• Deliver to the constituents of the Northeast and Midwest a broader suite of programs.

• Enhance capabilities that allow national level concerns to be addressed, including climate change; using wood for energy; land restoration; destructive invasive species; and urban natural resources stewardship.

• Improve the agency structure in the twenty-state region and overall operating efficiencies.

• Move to a unified Eastern Region, led by a Regional Forester.

Both units currently have strong programs. Combining the strengths of current resources will provide a powerful way to serve the people in the region and contribute to national priorities.

Both units will continue to build on their collective strengths and will strive to develop a model approach for effective forest management and science-based technology transfer. This is important as the Agency continues to seek ways to maximize the effectiveness of Forest Service programs. The potential to help address national stewardship issues will be profound. Specifically, actions that we envision include:

• Landscape-level stewardship within a wide range of land ownerships.

• More cohesive and integrated projects and programs that build on current capacity. The Climate Change Program is a prominent example. Work in the control and management of destructive invasive species is another example. Urban natural resources stewardship offers still another great opportunity.

• A suite of business operation practices that more effectively serve all the twenty states through one organizational mission.

• A single executive team organized and located in a way that best facilitates an integrated Landscape Science vision and works in harmony with the Combined Eastern Leadership Team (CELT).

• The Agency leadership will avoid any activity that creates inefficiencies and runs contrary to the mission of the Forest Service. Accordingly, we will strive to minimize the movement of current employees and move towards a unified Eastern Region as quickly as practicable. We will proceed at a pace that affords the best possible program to be implemented and addresses the needs of the people we serve.

• Begin the formal process of combining two organizational units.

Dated: June 2, 2009.
Hank Kashdan,
Associate Chief, U.S. Forest Service.

[FR Doc. E9-13380 Filed 6-8-09; 8:45 am]

BILLING CODE 3410-11-P